DEPARTMENT OF JUSTICE

Notice of Lodging of Consent Decree Under the Comprehensive Environmental Response, Compensation, and Liability Act

Notice is hereby given that on March 7, 2005, a proposed Consent Decree in Kewanee Industries, Inc. v. Browning-Ferris Industries of Ohio, et al., Civil Action No. 5:03CV1325, was lodged with the United States District Court for the Northern District of Ohio.

In a Complaint in Intervention also filed in this action on March 7, 2005, the United States sought recovery, under section 107(a) of the Comprehensive Environmental Response, Compensation, and Liability Act (“CERCLA”), 42 U.S.C. 9607(a), of response costs incurred in connection with the Krejci Dump Site in Summit County, Ohio (“Site”). The United States' claims were brought on behalf of the U.S. Department of the Interior, which has managed the Site since acquiring it by condemnation in 1980 for inclusion in the Cuyahoga Valley National Recreation Area (now Cuyahoga Valley National Park). Already pending in this action are claims by Kewanee Industries, Inc. (“Kewanee”) under section 113(f) of CERCLA for contribution towards response costs incurred by Kewanee in connection with the site.

The proposed Consent Decree resolves Kewanee's claims and (subject to certain reservations set forth in the Consent Decree) the claims filed by the United States against the three original Defendants in this action—Browning-Ferris Industries of Ohio, Gould Electronics, Inc. (through its alleged successor, Nikko Materials USA, Inc. dba Gould Electronics), and Paciv Corporation—and two additional defendants named in the United States' Complaint in Intervention—Garfield Alloys, Inc. and General Electric Company. Under the proposed Decree, the five settling defendants will pay a total of $300,000 to the United States (of which $270,000 is for reimbursement of response costs and $30,000 is for natural resource damages) and $600,000 to Kewanee.

The Department of Justice will receive comments relating to the proposed consent decree for a period of thirty (30) days from the date of this publication. Comments should be addressed to the Assistant Attorney General, Environment and Natural Resources Division, Department of Justice, P.O. Box 7611, Washington, DC 20044-7611, and should refer to Kewanee Industries, Inc. v. Browning-Ferris Industries of Ohio, et al., D.J. Ref. No. 90-11-3-768/2.

The proposed Consent Decree may be examined at the Office of the United States Attorney, 801 West Superior Avenue, Suite 400, Cleveland, Ohio. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of each Consent Decree, exclusive of exhibits and defendants' signatures, please enclose a check in the amount of $7.50 (25 cents per page reproduction cost) payable to the U.S. Treasury. The check should refer to Kewanee Industries, Inc. v. Browning-Ferris Industries of Ohio, et al., D.J. Ref. No. 90-11-3-768/2.

William D. Brighton,
Assistant Chief, Environmental Enforcement Section, Environment and Natural Resources Division.

[FR Doc. 05-5768 Filed 3-22-05; 8:45 am]

BILLING CODE 4410-15-M